ENVIRONMENTAL PROTECTION AGENCY

40 CFR Parts 7 and 9

[EPA-HQ-OA-2013-0031; FRL-9958-03-OA]

RIN 2090-AA39

Nondiscrimination in Programs or Activities Receiving Federal Assistance From the Environmental Protection Agency

AGENCY: Environmental Protection Agency (EPA).

ACTION: Proposed rule; withdrawal.

SUMMARY: The Environmental Protection Agency (EPA) is withdrawing a proposed rule for which the EPA no longer intends to issue a final rule. This document identifies the proposed rule and explains the EPA's decision to withdraw the proposal. The withdrawal of this proposed rule does not preclude the EPA from initiating the same or similar rulemaking at a future date. It does, however, close out the entry for this proposed rule in the EPA Semi-Annual Regulatory Agenda, published as part of the Unified Agenda of Federal Regulatory and Deregulatory Actions (Unified Agenda). Should the EPA decide at some future date to initiate the same or similar rulemaking, it will add an appropriate new entry to the EPA Semi-Annual Regulatory Agenda to reflect the initiation of the action.

DATES: The EPA is withdrawing the proposed rule as of January 9, 2017.

ADDRESSES: The EPA has established a docket for this action under Docket ID No. EPA-HQ-OA-2013-0031. All documents in the docket are listed on the http://www.regulations.gov Web site. Although listed in the index, some information is not publicly available, e.g., CBI or other information whose disclosure is restricted by statute. Certain other material, such as copyrighted material, is not placed on the Internet and will be publicly available only in hard copy form. Publicly available docket materials are available electronically through http://www.regulations.gov.

FOR FURTHER INFORMATION CONTACT: Kurt Temple, Environmental Protection Agency, Office of Civil Rights, (Mail Code 1201A), 1200 Pennsylvania Ave. NW., Washington, DC 20460, telephone number: (202) 564-7272 or (202) 564-7299; email address: temple.kurt@epa.gov.

SUPPLEMENTARY INFORMATION:

I. Does this action apply to me?

This action is directed to the public in general, and may be of particular interest to those persons who follow proposed rules related to the EPA's regulations about Nondiscrimination in Programs or Activities Receiving Federal Assistance from the EPA. Since others may also be interested, the EPA has not attempted to describe all the specific entities potentially interested.

II. Why is the EPA issuing this withdrawal document?

This document announces to the public that the EPA is withdrawing a certain proposed rule for which the EPA no longer intends to issue a final rule.

For the reasons described in this document, the EPA has decided not to finalize this rulemaking at this time. By withdrawing the proposed rule, the EPA is eliminating the pending nature of the regulatory action. Should the EPA determine to pursue anything in these areas in the future, it will issue a new proposed rule and invite public comment through notice in the Federal Register.

III. Background

1. What was proposed? On December 14, 2015, the EPA published a proposed rule in the Federal Register (80 FR 77284), to amend its nondiscrimination regulation regarding compliance information requirements for recipients of EPA financial assistance and Agency Compliance Procedures, as well as a technical correction to the reference to the Paperwork Reduction Act.

2. Why is it being withdrawn? The agency proposed amending its regulation to bring it into conformance with more than 20 other federal agencies. In other words, this proposed regulatory amendment concerned the EPA's internal processes, including the investigation of complaints and compliance reviews, and not obligations imposed on external stakeholders.

Nonetheless, the EPA received several adverse comments about this proposed amendment; especially regarding the proposal to remove numeric deadlines from the administrative complaint processing regulations. The EPA has considered all comments received. Although the EPA continues to believe that the proposed amendments, including the elimination of the numeric deadlines, are needed in order to better position the EPA to strategically manage and individually tailor resolution approaches to its administrative investigation of complaints and compliance reviews, the EPA has decided to withdraw the proposed amendments.

Instead of continuing to pursue this rulemaking, the EPA will implement and evaluate the ability of its internal procedural guidance documents and accountability measures that were finalized in December 2016 (including the Case Resolution Manual and the EPA's OCR External Compliance Program Strategic Plan) to achieve prompt effective, and efficient docket management. Based on its evaluation, the EPA may decide at some future date to initiate a new rulemaking to amend its non-discrimination regulation. The EPA is withdrawing the proposed amendments, as opposed to leaving them inactive, to promote transparency and certainty with regard to the status of its non-discrimination regulation.

3. Where can I get more information about this action? The EPA has established a docket for this action under Docket ID No. EPA-HQ-OA-2013-0031. See the ADDRESSES section above for more detail information about this docket.

List of Subjects

40 CFR Part 7

Environmental protection, Administrative practice and procedure, Age discrimination, Civil rights, Equal employment opportunity, Individuals with disabilities, Reporting and recordkeeping requirements, Sex discrimination.

40 CFR Part 9

Environmental protection, Control number, Office of Management and Budget, and Paperwork Reduction Act.

Dated: December 29, 2016.
Gina McCarthy,
Administrator.

[FR Doc. 2017-00050 Filed 1-6-17; 8:45 am]

BILLING CODE 6560-50-P